DEPARTMENT OF TRANSPORTATION

Federal Aviation Administration

14 CFR Part 39

[Docket No. FAA-2009-0168; Directorate Identifier 2007-SW-33-AD; Amendment 39-15977; AD 2009-15-14]

RIN 2120-AA64

Airworthiness Directives; Agusta S.p.A. Model AB139 and AW139 Helicopters

AGENCY: Federal Aviation Administration (FAA), Department of Transportation (DOT).

ACTION: Final rule.

SUMMARY: We are adopting a new airworthiness directive (AD) for the specified Agusta S.p.A. (Agusta) Model AB139 and AW139 helicopters. This AD results from mandatory continuing airworthiness information (MCAI) originated by an aviation authority of another country to identify and correct an unsafe condition on an aviation product. The aviation authority of Italy, with which we have a bilateral agreement, states in the MCAI that during the installation of a fire extinguisher bottle on a new helicopter, it was found that the electrical receptacle/connectors on the bottle which commands the firing of the extinguishing agent were swapped between engines No. 1 and No. 2. This condition could affect helicopters already in service and fire extinguisher bottles of the same part number in stock as spare parts. If not corrected, an improperly wired fire extinguishing bottle might cause the extinguishing agent to be discharged toward the unselected engine when the system is activated, rather than toward the engine with the fire. This AD requires determining if each engine has the proper outlet end on the electrical receptacle/connector that attaches the firing cartridge to the fire extinguisher bottle, and if not, replacing the fire extinguisher bottle. This AD is intended to prevent the fire extinguishing agent from not discharging toward the engine with the fire, which could result in loss of the helicopter due to an engine fire.

DATES: This AD becomes effective on September 9, 2009.

The incorporation by reference of certain publications is approved by the Director of the Federal Register as of September 9, 2009.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from Agusta, Via Giovanni Agusta, 520 21017 Cascina Costa di Samarate (VA), Italy, telephone 39 0331-229111, fax 39 0331-229605/222595, or at http://customersupport.agusta.com/technical_advice.php.

Examining The AD Docket: The AD docket contains the Notice of proposed rulemaking (NPRM), the economic evaluation, any comments received, and other information. The street address and operating hours for the Docket Operations office (telephone (800) 647-5527) are in the ADDRESSES section of this AD. Comments will be available in the AD docket shortly after they are received.

FOR FURTHER INFORMATION CONTACT: John Strasburger, Aviation Safety Engineer FAA, Rotorcraft Directorate, Regulations and Policy Group, 2601 Meacham Blvd., Fort Worth, Texas 76137; telephone (817) 222-5167; fax (817) 222-5961.

SUPPLEMENTARY INFORMATION:

Discussion

We issued an NPRM to amend 14 CFR part 39 to include an AD that would apply to Agusta Model AB139 and AW139 helicopters on February 19, 2009. That NPRM was published in the Federal Register on March 9, 2009 (74 FR 9971). That NPRM proposed to require determining if each engine has the proper outlet end on the electrical receptacle/connector that attaches the firing cartridge to the fire extinguisher bottle, and if not, replacing the fire extinguisher bottle. The proposed AD actions are intended to prevent the fire extinguishing agent from not discharging toward the engine with the fire, which could result in loss of the helicopter due to an engine fire. You may obtain further information by examining the MCAI and any related service information in the AD docket.

Comments

By publishing the NPRM, we gave the public an opportunity to participate in developing this AD. However, we received no comment on the NPRM or on our determination of the cost to the public. Therefore, based on our review and evaluation of the available data, we have determined that air safety and the public interest require adopting the AD as proposed.

Relevant Service Information

Agusta has issued Bollettino Tecnico No. 139-085, dated May 18, 2007. The actions described in the MCAI are intended to correct the same unsafe condition as that identified in the service information.

Differences Between This AD and the MCAI AD

We have reviewed the MCAI AD and related service information and, in general, agree with their substance. However, our AD differs from the MCAI AD to clarify the unsafe condition and compliance instructions. In making these changes, we do not intend to differ substantively from the information provided in the MCAI and related service information. These differences are highlighted in the “Differences Between the FAA AD and the MCAI AD” section in the AD.

Costs of Compliance

We estimate that this AD will affect about 20 helicopters of U.S. registry and that it will take about 1 work-hour per helicopter to verify the correct installation of electrical receptacles/connectors on the two fire extinguisher bottles. We also estimate that it will take about 3 work-hours per helicopter to replace a fire extinguisher bottle with the inverted electrical receptacles/connectors and that about 5% (2 bottles) of the fire extinguisher bottles in the fleet will have to be replaced. The average labor rate is $80 per work hour. The cost of a replacement fire extinguisher bottle is $10,300. Based on these figures, we estimate the cost of this AD on U.S. operators to be $22,680.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Effective Date

2009-15-14 Agusta S.p.A.: Amendment 39-15977; Docket No. FAA-2009-0168; Directorate Identifier 2007-SW-33-AD.

(a) This airworthiness directive (AD) becomes effective on September 9, 2009.

Other Affected ADs

(b) None.

Applicability

(c) This AD applies to Model AB139 helicopters, serial number (S/N) 31005 through 31054, except S/N 31007, and AW139 helicopters, S/N 31055 through 31067, S/N 31070, and S/N 31071, certificated in any category.

Reason

(d) The mandatory continuing airworthiness information (MCAI) states that during the installation of a fire extinguisher bottle, part number 3G2620V00131, on a helicopter during manufacture, it was found that the electrical receptacle/connectors on the bottle which commands the firing of the extinguishing agent were swapped between engines No. 1 and No. 2. This condition could affect helicopters already in service and fire extinguisher bottles of the same part number in stock as spare parts. If not corrected, an improperly wired fire extinguishing bottle might cause the extinguishing agent to be discharged toward the unselected engine when the system is activated, rather than toward the engine with the fire. This AD requires determining if each engine has the proper outlet end on the electrical receptacle/connector that attaches the firing cartridge to the fire extinguisher bottle, and if not, replacing the fire extinguisher bottle. This AD is intended to prevent the fire extinguishing agent from not discharging toward the engine with the fire, which could result in loss of the helicopter due to an engine fire.

Actions and Compliance

(e) Within 100 hours time-in-service (TIS) or 3 months, whichever occurs first, unless already done, do the following actions.

(1) Determine whether the fire extinguishing bottle (bottle) for engines No. 1 and No. 2 have the proper outlet end on the electrical receptacle/connector, which attaches the firing cartridge to the bottle, by following steps 4. and 5. of the Compliance Instructions in Agusta Bollettino Tecnico No. 139-085, dated May 18, 2007 (BT).

(2) If a bottle has an electrical receptacle/connector for the firing cartridge with an improper outlet end, before further flight, replace the bottle with a bottle that has an electrical receptacle/connector with a proper outlet end in accordance with step 6. of the Compliance Instructions in the BT.

Differences Between This AD and the MCAI AD

(f) This AD uses the term “hours time-in-service” rather than “flight hours.”

Other Information

(g) Alternative Methods of Compliance (AMOCs): The Manager, Safety Management Group, Rotorcraft Directorate, FAA, ATTN: John Strasburger, Aviation Safety Engineer, FAA, Rotorcraft Directorate, Regulations and Policy Group, 2601 Meacham Blvd., Fort Worth, Texas 76137; telephone (817) 222-5167; fax (817) 222-5961, has the authority to approve AMOCs for this AD, if requested using the procedures found in 14 CFR 39.19.

Related Information

(h) MCAI Ente Nazionale Per L'Aviazione Civile Airworthiness Directive No. 2007-227, dated June 18, 2007, contains related information.

Joint Aircraft System/Component (JASC) Code

(i) JASC Code 2621: Fire Bottle, Fixed.

Material Incorporated by Reference

(j) You must use the specified portions of Agusta Bollettino Tecnico No. 139-085, dated May 18, 2007 to do the actions required.

(1) The Director of the Federal Register approved the incorporation by reference of this service information under 5 U.S.C. 552(a) and 1 CFR part 51.

(2) For service information identified in this AD, contact Agusta, Via Giovanni Agusta, 520 21017 Cascina Costa di Samarate (VA), Italy, telephone 39 0331-229111, fax 39 0331-229605/222595, or at http://customersupport.agusta.com/technical_advice.php.

(3) You may review copies at the FAA, Office of the Regional Counsel, Southwest Region, 2601 Meacham Blvd., Room 663, Fort Worth, Texas; or at the National Archives and Records Administration (NARA). For information on the availability of this material at NARA, call (202) 741-6030, or go to: http://www.archives.gov/federal-register/cfr/ibr-locations.html.

Issued in Fort Worth, Texas, on July 10, 2009.
Larry M. Kelly,
Acting Manager, Rotorcraft Directorate, Aircraft Certification Service.

[FR Doc. E9-18430 Filed 8-4-09; 8:45 am]

BILLING CODE 4910-13-P